DEPARTMENT OF TRANSPORTATION

Federal Aviation Administration

14 CFR Part 39

[Docket No. FAA-2012-0942; Directorate Identifier 2012-NE-24-AD; Amendment 39-17355; AD 2013-03-21]

RIN 2120-AA64

Airworthiness Directives; Pratt & Whitney Canada Corp. Turboshaft Engines

AGENCY: Federal Aviation Administration (FAA), DOT.

ACTION: Final rule.

SUMMARY: We are adopting a new airworthiness directive (AD) for certain serial number Pratt & Whitney Canada Corp. PW206B, PW206B2, PW206C, PW207C, PW207D, PW207D1, PW207D2, and PW207E turboshaft engines. This AD was prompted by the discovery that certain power turbine (PT) disks were made to specific heat codes that may not achieve the maximum in-service life. This AD requires re-identification of the PT disk to a part number (P/N) with a lower life limit. We are issuing this AD to prevent possible uncontained PT disk failure and loss of helicopter control.

DATES: This AD becomes effective March 26, 2013. The Director of the Federal Register approved the incorporation by reference of a certain publication listed in this AD as of March 26, 2013.

ADDRESSES: The Docket Operations office is located at Docket Management Facility, U.S. Department of Transportation, 1200 New Jersey Avenue SE., West Building Ground Floor, Room W12-140, Washington, DC 20590-0001.

FOR FURTHER INFORMATION CONTACT: James Lawrence, Aerospace Engineer, Engine Certification Office, FAA, Engine & Propeller Directorate, 12 New England Executive Park, Burlington, MA 01803; phone: 781-238-7176; fax: 781-238-7199; email: james.lawrence@faa.gov.

SUPPLEMENTARY INFORMATION:

Discussion

We issued a notice of proposed rulemaking (NPRM) to amend 14 CFR part 39 to include an AD that would apply to the specified products. That NPRM was published in the Federal Register on November 7, 2012 (77 FR 66767). That NPRM proposed to correct an unsafe condition for the specified products. The Mandatory Continuing Airworthiness Information states:

Certain power turbine (PT) disks, part number (P/N) 3044188-01, made to specific heat codes may not achieve the established maximum in-service life when installed in Turbomachinery Assembly P/N 3058588. The PT disk in-service life for engines using this specific PT disk and compressor turbine (CT) vane combination is reduced when operated in a particular temperature and speed environment.

Comments

We gave the public the opportunity to participate in developing this AD. We received no comments on the NPRM (77 FR 66767, November 7, 2012).

Conclusion

We reviewed the available data and determined that air safety and the public interest require adopting the AD as proposed (77 FR 66767, November 7, 2012).

Costs of Compliance

We estimate that this AD will affect about 83 engines installed on helicopters of U.S. registry. We also estimate that it will take about 4 hours per engine to comply with this AD. The average labor rate is $85 per hour. Prorated parts life will cost about $8,900. Based on these figures, we estimate the cost of this AD on U.S. operators to be $766,920.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (phone: 800-647-5527) is provided in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-03-21 Pratt & Whitney Canada Corp.: Amendment 39-17355; Docket No. FAA-2012-0942; Directorate Identifier 2012-NE-24-AD.

(a) Effective Date

This airworthiness directive (AD) becomes effective March 26, 2013.

(b) Affected ADs

None.

(c) Applicability

This AD applies to Pratt & Whitney Canada Corp. (P&WC) model PW206B, PW206B2, PW206C, PW207C, PW207D, PW207D1, PW207D2, and PW207E turboshaft engines.

(d) Reason

This AD was prompted by the discovery that certain power turbine (PT) disks, part number (P/N) 3044188-01, made to specific heat codes that may not achieve the established maximum in-service life when installed in Turbomachinery Assembly P/N 3058588. The PT disk in-service life for engines using this specific PT disk and compressor turbine vane combination is reduced when operated in a particular temperature and speed environment. We are issuing this AD to prevent possible uncontained PT disk failure and loss of helicopter control.

(e) Actions and Compliance

Unless already done, do the following actions.

(f) Affected PT Disks Installed With Turbomachinery Assembly P/N 3058588 Installation

(1) For any PT disk P/N 3044188-01 that is listed by serial number (S/N) in Table 1 of P&WC Alert Service Bulletin (ASB) No. PW200-72-A28311, Revision 2, dated July 24, 2012, and, that is installed or that had previously been installed with Turbomachinery Assembly P/N 3058588 installation, do the following:

(i) Remove the PT disk P/N 3044188-01 from service before it reaches 10,000 cycles-since-new (CSN).

(ii) Re-identify the PT disk to P/N 3072542-01, at the next engine shop visit, not to exceed 10,000 CSN on the PT disk, before reinstalling it in any engine. Use paragraphs 3.B.(1) through 3.B.(1)(b)4 of the Accomplishment Instructions of P&WC ASB No. PW200-72-A28311, Revision 2, dated July 24, 2012, to do the re-identification.

(iii) After re-identification of the PT disk to P/N 3072542-01, retain the total cycles accumulated as P/N 3044188-01. The cycles remaining on the re-identified P/N 3072542-01 PT disk must be calculated using the difference between the published life limit of P/N 3072542-01 and the total number of cycles accumulated as P/N 3044188-01. The maximum in-service life of PT disk, P/N 3072542-01, is 10,000 CSN.

(2) After the effective date of this AD, do not install any PT disk, P/N 3044188-01, that is listed in Table 1 of P&WC ASB No. PW200-72-A28311, Revision 2, dated July 24, 2012, in any engine with Turbomachinery Assembly P/N 3058588 installation, unless the PT disk has been re-identified to P/N 3072542-01. Use paragraphs 3.B.(1) through 3.B.(1)(b)4 of the Accomplishment Instructions of P&WC ASB No. PW200-72-A28311, Revision 2, dated July 24, 2012, to do the PT disk re-identification.

(g) Credit for Actions Accomplished in Accordance With Previous Service Information

You may take credit for the re-identification of the PT disk that is required by this AD if you performed the re-identification before the effective date of this AD using P&WC ASB No. PW200-72-A28311, dated March 1, 2012, or P&WC ASB No. PW200-72-A28311, Revision 1, dated March 22, 2012.

(h) Alternative Methods of Compliance (AMOCs)

The Manager, Engine Certification Office, FAA, may approve AMOCs for this AD. Use the procedures found in 14 CFR 39.19 to make your request.

(i) Related Information

(1) For more information about this AD, contact James Lawrence, Aerospace Engineer, Engine Certification Office, FAA, Engine & Propeller Directorate, 12 New England Executive Park, Burlington, MA 01803; phone: 781-238-7176; fax: 781-238-7199; email: james.lawrence@faa.gov.

(2) Refer to Transport Canada AD CF-2012-23, dated July 26, 2012, for related information.

(3) The Engine Maintenance Manual (EMM) Temporary Revisions (TRs) listed in Table 1 to paragraph (i)(3) of this AD pertain to the subject of this AD.

Table 1 to Paragraph (i)(3)—EMM TRs
EMM P/Ns: | TR Nos.:
3071602 | AL-3, AL-4
3043612 | AL-12, AL-13
3043322 | AL-16
3039732 | AL-18, AL-19
3038324 | AL-20

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Pratt & Whitney Canada Corp. Alert Service Bulletin No. PW200-72-A28311, Revision 2, dated July 24, 2012.

(ii) Reserved.

(3) For service information identified in this AD, contact Pratt & Whitney Canada Corp., 1000 Marie-Victorin, Longueuil, Quebec, Canada, J4G 1A1; phone: 800-268-8000; fax: 450-647-2888; Web site: www.pwc.ca.

(4) You may view this service information at the FAA, Engine & Propeller Directorate, 12 New England Executive Park, Burlington, MA. For information on the availability of this material at the FAA, call 781-238-7125.

(5) You may view this service information at the National Archives and Records Administration (NARA). For information on the availability of this material at NARA, call 202-741-6030, or go to: http://www.archives.gov/federal-register/cfr/ibr-locations.html.

Issued in Burlington, Massachusetts, on February 7, 2013.
Robert J. Ganley,
Acting Manager, Engine & Propeller Directorate, Aircraft Certification Service.

[FR Doc. 2013-03412 Filed 2-15-13; 8:45 am]

BILLING CODE 4910-13-P